SECURITIES AND EXCHANGE COMMISSION

17 CFR Part 270

[Release Nos. 33-7728A, IC-23958A, IA-1815A; File No. S7-25-95]

RIN 3235-AG27

Personal Investment Activities of Investment Company Personnel

AGENCY: Securities and Exchange Commission.

ACTION: Correction to final rule.

SUMMARY: This release contains a correction to the final amendments to rule 17j-1 under the Investment Company Act of 1940, which were published Friday, August 27, 1999 (64 FR 46821). Rule 17j-1 addresses conflicts of interest that rise from personal securities activities of investment company personnel.

EFFECTIVE DATE: March 6, 2000.

FOR FURTHER INFORMATION CONTACT: Penelope W. Saltzman, Senior Counsel, (202) 942-0690, or C. Hunter Jones, Assistant Director, Office of Regulatory Policy, Division of Investment Management, Securities and Exchange Commission, 450 Fifth Street, NW, Washington, DC 20549-0506.

SUPPLEMENTARY INFORMATION: The amendments to rule 17j-1 under the Investment Company Act of 1940 were designed to improve the regulation of conflicts of interest that arise when registered investment company (“fund”) personnel buy and sell securities for their own accounts. The amendments include a requirement that the board of directors of a fund approve the code of ethics of the fund, and any of its investment advisers and principal underwriters. Section 17j-1(c)(1(ii) also was intended to provide that before approving any of these codes, the fund's board must receive a certification from the fund and each of its investment advisers and principal underwriters that the organization providing the certification has adopted certain procedures.

As adopted, section 17j-1(c)(1)(ii) contains an error that may be misleading and should be clarified.

Accordingly, the publication on August 27, 1999 of the final regulation (33-7728), which was the subject of FR Doc. 99-22310, is corrected as follows:

§ 270.17J-1 [Corrected]

On page 46835, first column, fourteenth and fifteenth lines, the phrase “the investment adviser's or principal underwriter's code of ethics” is corrected to read “the Fund's, investment adviser's, or principal underwriter's code of ethics.”

Dated: March 6, 200.
Jonathan G. Katz,
Secretary.

[FR Doc. 00-5914 Filed 3-9-00; 8:45 am]

BILLING CODE 8010-01-M